DEPARTMENT OF THE INTERIOR

Fish and Wildlife Service

[FWS-HQ-FAC-2024-N014; FXFR13360900000-FF09F14000-245]

Aquatic Nuisance Species Task Force Meeting

AGENCY: Fish and Wildlife Service, Interior.

ACTION: Notice of meeting.

SUMMARY: The U.S. Fish and Wildlife Service gives notice of a public meeting of the Aquatic Nuisance Species (ANS) Task Force, in accordance with the Federal Advisory Committee Act. The ANS Task Force's purpose is to develop and implement a program for U.S. waters to prevent introduction and dispersal of aquatic invasive species; to monitor, control, and study such species; and to disseminate related information.

DATES: The ANS Task Force will meet Wednesday and Thursday on May 8-9, 2024, from 8 a.m. to 5 p.m. each day (eastern time). On Wednesday, May 8, 2024, there will be a site visit from 1 p.m. to 5 p.m. The site visit will include presentations on, and viewing of, aquatic invasive species control projects.

Registration: Registration is required. The deadline for registration is May 3, 2024. Also see “Public Input,” below.

Accessibility: The deadline for accessibility accommodation requests is May 3, 2024. Please see “Accessibility Information,” below.

ADDRESSES: The meeting will take place at the Gideon Putnam Room, Saratoga Spa State Park, 19 Roosevelt Drive, Saratoga Springs, NY 12866. Virtual participation will also be available via teleconference and broadcast over the internet. To register and receive the web address and telephone number for virtual participation, contact the Executive Secretary (see FOR FURTHER INFORMATION CONTACT) or visit the ANS Task Force website at https://www.fws.gov/program/aquatic-nuisance-species-task-force.

FOR FURTHER INFORMATION CONTACT: Susan Pasko, Executive Secretary, ANS Task Force, by telephone at (571) 623-0608, or by email at Susan_Pasko@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

The Aquatic Nuisance Species (ANS) Task Force was established by the Nonindigenous Aquatic Nuisance Prevention and Control Act of 1990, as amended (16 U.S.C. 4721-4728), and is composed of Federal and ex-officio members. The ANS Task Force's purpose is to develop and implement a program for U.S. waters to prevent introduction and dispersal of aquatic invasive species; to monitor, control, and study such species; and to disseminate related information.

Meeting Information

This meeting is open to the public. The meeting agenda will include reports from ANS Task Force members, regional panels, and subcommittees; discussion on priority outputs to advance the goals identified in the ANS Task Force Strategic Plan for 2020-2025; presentations highlighting regional invasive species challenges and innovative measures for ANS management and control; recommendations by the ANS Task Force regional panels; and public comment. The site visit will include presentations on, and viewing of, aquatic invasive species control projects within the area, including marine rapid assessment surveys conducted at local marinas and Hydrilla control and containment efforts in the Connecticut River. The final agenda and other related meeting information will be posted on the ANS Task Force website, https://www.fws.gov/program/aquatic-nuisance-species-task-force.

Public Input

If you wish to provide oral public comment or provide a written comment for the ANS Task Force to consider, contact the ANS Task Force Executive Secretary (see FOR FURTHER INFORMATION CONTACT) no later than May 1, 2024.

Depending on the number of people who want to comment and the time available, the amount of time for individual oral comments may be limited. Interested parties should contact the ANS Task Force Executive Secretary, in writing (see FOR FURTHER INFORMATION CONTACT), for placement on the public speaker list for this meeting. Requests to address the ANS Task Force during the meeting will be accommodated in the order the requests are received. Registered speakers who wish to expand upon their oral statements, or those who had wished to speak but could not be accommodated on the agenda, may submit written statements to the Executive Secretary up to 30 days following the meeting.

Accessibility Information

Please make requests in advance for sign language interpreter services, assistive listening devices, or other reasonable accommodations. Please contact the ANS Task Force Executive Secretary (see FOR FURTHER INFORMATION CONTACT) no later than May 3, 2024, to give the U.S. Fish and Wildlife Service sufficient time to process your request. All reasonable accommodation requests are managed on a case-by-case basis.

Public Disclosure

Before including your address, phone number, email address, or other personal identifying information in your comment, you should be aware that your entire comment—including your personal identifying information—may be made publicly available at any time. While you can ask us in your comment to withhold your personal identifying information from public review, we cannot guarantee that we will be able to do so.

Authority: 5 U.S.C. ch. 10.

David A. Miko,
Co-Chair, Aquatic Nuisance Species Task Force.

[FR Doc. 2024-07057 Filed 4-2-24; 8:45 am]

BILLING CODE 4333-15-P